DEPARTMENT OF AGRICULTURE

Food and Nutrition Service

Agency Information Collection Activities: Proposed Collection; Comment Request—Food Distribution Programs

AGENCY: Food and Nutrition Service (FNS), USDA.

ACTION: Notice.

SUMMARY: In accordance with the Paperwork Reduction Act of 1995, this notice invites the general public and other public agencies to comment on this proposed information collection. This collection is an extension, without change, of a currently approved collection. This collection allows for Food Distribution Programs, such as the National School Lunch Program (NSLP), the Food Distribution Program on Indian Reservations (FDPIR), the Commodity Supplemental Food Program (CSFP), and The Emergency Food Assistance Program (TEFAP), to run effectively. The information reported and the records kept for purposes of review are used by State and recipient agencies, Indian Tribal Organizations (ITOs), and FNS regional and headquarters offices for the purpose of administering USDA Food Distribution Programs. The programs assist American farmers and needy people by purchasing commodities and delivering them to State agencies and ITOs that, in turn, distribute them to organizations for use in providing food assistance to those in need. The information collected allows State agencies and ITOs to administer programs that align with their local preferences and gives FNS National and Regional offices the ability to ensure programs are complying with program regulations and policies.

DATES: Written comments must be received on or before September 10, 2019.

ADDRESSES: Comments may be sent to: Kiley Larson, Food and Nutrition Service, U.S. Department of Agriculture, 3101 Park Center Drive, Room 506, Alexandria, VA 22302. Comments may also be submitted by phone at (703) 305-2680, via fax to the attention of Kiley Larson at (703) 305-2964, or via email to kiley.larson@fns.usda.gov. Comments will also be accepted through the Federal eRulemaking Portal. Go to http://www.regulations.gov and follow the online instructions for submitting comments electronically. All responses to this notice will be summarized and included in the request for Office of Management and Budget approval. All comments will be a matter of public record.

FOR FURTHER INFORMATION CONTACT: Requests for additional information or copies of this information collection should be directed to Kiley Larson by phone at (703) 305-2680 or via fax at (703) 305-2964.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Food Distribution Programs.

Form Numbers: FNS 7, 52, 53, 57, 152, 153, 155, and 667.

OMB Number: 0584-0293.

Expiration Date: November 30, 2019.

Type of Request: Extension, without change, of a currently approved collection.

Abstract: The Food Distribution Programs of the United States Department of Agriculture (USDA) assist American farmers and needy people by purchasing and delivering food to State agencies and ITOs that, in turn, distribute them to organizations that assist those in need. Effective administration of Food Distribution Programs is dependent on the collection and submission of information from State and local agencies, ITOs, private-for-profit companies, and private not-for-profit companies to FNS. This information includes, for example, the number of households served in the programs; the quantities of foods ordered and where the food is to be delivered; verification of the receipt of a food order; and the amounts of USDA Foods in inventory. FNS employs this information collection activity to obtain the data necessary to make those calculations.

There are other forms which are used to report information that are associated with this collection that are approved under other FNS information collections or in other agency information collections. The burden associated with these forms is approved under these collections and is not included in the total burden for this collection. These forms include FNS-44 Report of Child and Adult Care Food Program, FNS-10 Report of School Operations, FNS-191 CSFP Racial/Ethnic Group Participation, FNS-292A Report of Commodity Distribution for Disaster Relief, and FNS-292B Disaster Supplemental Nutrition Assistance Program Benefit Issuance (OMB# 0584-0594 Food Programs Reporting System (FPRS), expiration date 9/30/2019) and FNS-74 Federal-State Agreement (OMB# 0584-0067 7 CFR part 235—State Administrative Expense (SAE) Funds, expiration date 8/31/2019). In addition to these Agency-developed forms, FNS also uses OMB Standard Forms SF-269 Financial Status Report (Long), SF-269A Financial Status Report (Short), SF-424 Application for Federal Assistance, and SF-1034 in the commodity programs.

This is a renewal of the information collection under the burden number 0584-0293. There are no changes in our burden estimates. Adjustments have been made to the total number of respondents to accurately capture the total number of unique respondents. These adjustments did not change the collection's previously approved burden estimates. The information collected under this burden deals with program staples, such as inventory and expenses. This foundational information tends to remain fairly consistent, allowing for consistent burden estimates. When changes in the program do arise, the burden is adjusted to reflect those specific modifications.

Affected Public: (a) Individuals and households participating; (b) businesses or other for-profit entities; (c) not for-profit organizations or charitable institutions; and (d) State, Local, and Tribal Governments. The respondent groups include: Distributors, Processors, Child Care Institutions, Food Service Management Companies, disaster feeding organizations, food banks, State Distributing Agencies, Indian Tribal Organizations, School Food Authorities, and individuals participating in these programs.

Estimated Number of Respondents: The total estimated number of respondents is 638,170. This includes 21,440 from State, Local, and Tribal Governments, 3,443 from private for profit businesses and companies, 2,087 nonprofits, and 611,200 households and individuals. These numbers were calculated by isolating the largest number of respondents from each respondent group (e.g., food banks versus State agencies) and totaling them to ensure that each group was accounted for and the number of those responding was accurate. Isolating these groups allowed us to remove duplicative respondents, allowing for a precise representation of respondents.

Estimated Number of Responses per Respondent: The total estimated average number of responses is 5.98 (6 rounded).

Estimated Total Annual Responses: The estimated average number of total annual responses is 3,814,782.03 (3,814,782 rounded).

Estimated Time per Response: The average estimated time of response varies from 0.03 hours (1.8 minutes) to 52.63 hours depending on respondent group, as shown in the table below. The average estimated response time for all of the participants is 0.30 hours (18 minutes) per response.

Estimated Total Annual Burden on Respondents: 1,160,534.91 hours (1,160,535 rounded). See table below for estimated total annual burden for each type of respondent.

Affected public | Est. number of respondents | Number of responses per respondent | Total annual responses | Est. total hours per response | Est. total burden
Reporting
State, Local, and Tribal Governments | 21,440 | 10.84 | 232,319.24 | .25 | 58,679.5
Private for Profit | 3,443 | 250.27 | 861,681.33 | .03 | 26,093.88
Private Not for Profit | 2,087 | 1.55 | 3,240 | .19 | 614.5
Individual | 611,200 | 1.96 | 1,199,200 | .25 | 304,400
Total Estimated Reporting Burden | 638,170 | 3.60 | 2,296,440.57 | .17 | 389,787.88

Affected public | Est. number of record-keepers | Number of responses per record-keeper | Total annual responses | Est. total hours per response | Est. total burden
Recordkeeping
State, Local, and Tribal Governments | 21,440 | 21.97 | 471,130.46 | .08 | 35,413.02
Private for Profit | 3,443 | 300.44 | 1,034,429 | .06 | 62,671.72
Private Not for Profit | 2,087 | 6.12 | 12,782 | 52.63 | 672,662.29
Total Estimated Recordkeeping Burden | 26,970 | 56.30 | 1,518,341.46 | .51 | 770,747.03
Total of Reporting and Recordkeeping
Reporting | 638,170 | 3.60 | 2,296,440.57 | .17 | 389,787.88
Recordkeeping | 26,970 | 56.30 | 1,518,341.46 | .51 | 770,747.03
Total | 638,170 | 5.98 | 3,814,782.03 | .30 | 1,160,534.91

Dated: June 28, 2019.
Brandon Lipps,
Administrator, Food and Nutrition Service.

[FR Doc. 2019-14795 Filed 7-11-19; 8:45 am]

BILLING CODE 3410-30-P